DEPARTMENT OF ENERGY

Federal Energy Regulatory Commission

Combined Notice of Filings #1

Take notice that the Commission received the following exempt wholesale generator filings:

Docket Numbers: EG25-228-000.

Applicants: Wakefield BESS 1 LLC.

Description: Wakefield BESS 1 LLC submits Notice of Self-Certification of Exempt Wholesale Generator Status.

Filed Date: 3/14/25.

Accession Number: 20250314-5146.

Comment Date: 5 p.m. ET 4/4/25.

Take notice that the Commission received the following electric rate filings:

Docket Numbers: ER21-21-005.

Applicants: Harts Mill Solar, LLC.

Description: Compliance filing: Informational Filing Pursuant to Schedule 2 of the PJM Interconnection to be effective N/A.

Filed Date: 3/14/25.

Accession Number: 20250314-5216.

Comment Date: 5 p.m. ET 4/4/25.

Docket Numbers: ER22-1539-002.

Applicants: NRG Power Marketing LLC.

Description: Refund Report: Refund Report to be effective N/A.

Filed Date: 3/14/25.

Accession Number: 20250314-5198.

Comment Date: 5 p.m. ET 4/4/25.

Docket Numbers: ER23-2688-002.

Applicants: NRG Business Marketing LLC.

Description: Refund Report: Refund Report to be effective N/A.

Filed Date: 3/14/25.

Accession Number: 20250314-5206.

Comment Date: 5 p.m. ET 4/4/25.

Docket Numbers: ER24-2022-001.

Applicants: Black Hills Power, Inc.

Description: Compliance filing: Order Nos. 2023 and 2023-A Further Compliance Filing to be effective 8/1/2024.

Filed Date: 3/14/25.

Accession Number: 20250314-5134.

Comment Date: 5 p.m. ET 4/4/25.

Docket Numbers: ER25-1594-000.

Applicants: Hickory Wind LLC.

Description: Request of Hickory Wind LLC for Prospective Tariff Waiver, Expedited Action, and Shortened Comment Period.

Filed Date: 3/13/25.

Accession Number: 20250313-5169.

Comment Date: 5 p.m. ET 4/3/25.

Docket Numbers: ER25-1606-000.

Applicants: ISO New England Inc., New England Power Pool Participants Committee.

Description: § 205(d) Rate Filing: ISO New England Inc. submits tariff filing per 35.13(a)(2)(iii: ISO-NE & NEPOOL; Revision to Update the ISO Billing Policy to be effective 6/1/2025.

Filed Date: 3/14/25.

Accession Number: 20250314-5062.

Comment Date: 5 p.m. ET 4/4/25.

Docket Numbers: ER25-1607-000.

Applicants: Electric Power Markets USA LLC.

Description: § 205(d) Rate Filing: Petition for Blanket MBR Authorization w/Waivers & Expedited Treatment to be effective 5/1/2025.

Filed Date: 3/14/25.

Accession Number: 20250314-5079.

Comment Date: 5 p.m. ET 4/4/25.

Docket Numbers: ER25-1618-000.

Applicants: MidAmerican Energy Company, Midcontinent Independent System Operator, Inc.

Description: § 205(d) Rate Filing: MidAmerican Energy Company submits tariff filing per 35.13(a)(2)(iii: 2025-03-14_SA 4460 MidAmerican-MidAmerican E&P (J3047 & J3553) to be effective 3/13/2025.

Filed Date: 3/14/25.

Accession Number: 20250314-5164.

Comment Date: 5 p.m. ET 4/4/25.

Docket Numbers: ER25-1619-000.

Applicants: Consumers Energy Company.

Description: Tariff Amendment: Notice of Termination—WDS Service Agrmt. with Alpena Power Co. to be effective 3/14/2025.

Filed Date: 3/14/25.

Accession Number: 20250314-5187.

Comment Date: 5 p.m. ET 4/4/25.

Docket Numbers: ER25-1620-000.

Applicants: Northern States Power Company, a Minnesota corporation.

Description: § 205(d) Rate Filing: 2025_1 Interchange Agreement Annual Filing to be effective 1/1/2025.

Filed Date: 3/14/25.

Accession Number: 20250314-5188.

Comment Date: 5 p.m. ET 4/4/25.

Docket Numbers: ER25-1621-000.

Applicants: Wilderness Line Holdings, LLC.

Description: Compliance filing: Order No. 904 Compliance Filing to be effective 3/15/2025.

Filed Date: 3/14/25.

Accession Number: 20250314-5192.

Comment Date: 5 p.m. ET 4/4/25.

Docket Numbers: ER25-1622-000.

Applicants: PJM Interconnection, L.L.C.

Description: § 205(d) Rate Filing: Original GIA Service Agreement No. 7597; Project Identifier No. AG1-254 to be effective 2/12/2025.

Filed Date: 3/14/25.

Accession Number: 20250314-5194.

Comment Date: 5 p.m. ET 4/4/25.

Docket Numbers: ER25-1623-000.

Applicants: PJM Interconnection, L.L.C.

Description: § 205(d) Rate Filing: Original NSA Service Agreement SA No. 7476; Queue No. AA1-145 to be effective 5/14/2025.

Filed Date: 3/14/25.

Accession Number: 20250314-5221.

Comment Date: 5 p.m. ET 4/4/25.

Docket Numbers: ER25-1630-000.

Applicants: Wakefield BESS 1 LLC.

Description: § 205(d) Rate Filing: Wakefield BESS 1 LLC MBR Tariff to be effective 5/14/2025.

Filed Date: 3/14/25.

Accession Number: 20250314-5264.

Comment Date: 5 p.m. ET 4/4/25.

Docket Numbers: ER25-1631-000.

Applicants: PJM Interconnection, L.L.C.

Description: § 205(d) Rate Filing: Original GIA, Service Agreement No. 7591; AG1-555 to be effective 2/12/2025.

Filed Date: 3/14/25.

Accession Number: 20250314-5266.

Comment Date: 5 p.m. ET 4/4/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

Dated: March 14, 2025.
Debbie-Anne A. Reese,
Secretary.

[FR Doc. 2025-04745 Filed 3-19-25; 8:45 am]

BILLING CODE 6717-01-P